DEPARTMENT OF JUSTICE

[OMB Number 1110-0011]

Agency Information Collection Activities; Proposed eCollection eComments Requested; Revision of a Previously Approved Collection; ViCAP National Crime Database

AGENCY: Federal Bureau of Investigation, Department of Justice.

ACTION: 60-Day notice.

SUMMARY: The Department of Justice (DOJ), Federal Bureau of Investigation (FBI), Critical Incident Response Group (CIRG), will be submitting the following information collection request to the Office of Management and Budget (OMB) for review and approval in accordance with the Paperwork Reduction Act of 1995.

DATES: Comments are encouraged and will be accepted for 60 days until November 17, 2025.

FOR FURTHER INFORMATION CONTACT: If you have additional comments especially on the estimated public burden or associated response time, suggestions, or need a copy of the proposed information collection instrument with instructions or additional information, please contact Nathan Graham, Program Manager, Federal Bureau of Investigation, Critical Incident Response Group, FBI Academy, Quantico, VA 22135, (703) 632-4309, nsgraham@fbi.gov.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: ViCAP is a unit of the Federal Bureau of Investigation (FBI) responsible for the analysis of serial violent and sexual crimes. The ViCAP National Crime Database maintains the largest investigative repository of major violent crime cases in the U.S. It is designed to collect and analyze information about Homicides (and attempts) that are known or suspected to be part of a series and/or are apparently random or sexually oriented; Sexual Assaults that are known or suspected to be part of a series and/or are committed by a stranger; Missing Persons where the circumstances indicate a strong possibility of foul play and the victim is still missing; and Unidentified Human Remains where the manner of death is known or suspected to be homicide.

Overview of This Information Collection

1. Type of Information Collection: Revision of a currently approved collection.

2. The Title of the Form/Collection: ViCAP National Crime Database.

3. The agency form number, if any, and the applicable component of the Department sponsoring the collection: N/A.

4. Affected public who will be asked or required to respond, as well as the obligation to respond: Affected Public is state, local and tribal governments. The obligation to respond is voluntary.

5. An estimate of the total number of respondents and the amount of time estimated for an average respondent to respond: Approximately 5,700 respondents and approximately 20 minutes for an average respondent to respond.

6. An estimate of the total annual burden (in hours) associated with the collection: The total annual burden hours for this collection is approximately 1,900 burden hours (5,700 × 20min/60= 1,900).

7. An estimate of the total annual cost burden associated with the collection, if applicable: zero.

Total Burden Hours
Activity | Number of respondents | Frequency (annually) | Total annual responses | Time per response (min) | Total annual burden (hours)
ViCAP National Crime Database | 5,700 | 1 | 5,700 | 20 | 1,900

If additional information is required contact: Darwin Arceo, Department Clearance Officer, United States Department of Justice, Justice Management Division, Enterprise Portfolio Management, Two Constitution Square, 145 N Street NE, 4W-218, Washington, DC.

Dated: September 15, 2025.
Darwin Arceo,
Department Clearance Officer for PRA, U.S. Department of Justice.

[FR Doc. 2025-17955 Filed 9-16-25; 8:45 am]

BILLING CODE 4410-02-P